DEPARTMENT OF ENERGY

Federal Energy Regulatory Commission

[Docket No. CP19-469-000]

Tennessee Gas Pipeline Company, L.L.C.; Notice of Request Under Blanket Authorization

Take notice that on May 15, 2019, Tennessee Gas Pipeline Company, L.L.C. (Tennessee), 1001 Louisiana Street, Houston, Texas 77002, filed in the above referenced docket, a prior notice request pursuant to sections 157.205, 157.208 and 157.210 of the Commission's regulations under the Natural Gas Act (NGA) and Tennessee's blanket certificate issued in Docket No. CP82-413-000, for authorization to replace a turbine on an existing compressor unit C1, at its existing Compressor Station (CS) 321 in Susquehanna County, Pennsylvania, and to increase firm transportation capacity in a portion of Tennessee's 300 Line by up to 10,000 dekatherms per day (Dth/d), all as more fully set forth in the application which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions regarding this prior notice request should be directed to Ben J. Carranza, Director of Regulatory for Tennessee Gas Pipeline Company, L.L.C., 1001 Louisiana Street, Houston, Texas 77002, or call (713) 420-5535, or by email ben_caranza@kindermorgan.com.

Specifically, Tennessee proposes to replace existing Solar Turbine Taurus 70-10302S compressor unit at CS 321 with a Taurus 70-10802S compressor unit. The new turbine engine will have 9 ppm SoLoNOX controls, which will result in lower oxides of nitrogen (NOX) emissions from Unit C1. The planned replacement of the existing turbine engine will increase the horsepower of Unit C1 by 800 ISO horsepower, which will create an incremental year-round transportation capacity of approximately 10,000 Dth/d in Segments 320 and 321 of Tennessee's 300 Line. Tennessee states that this additional capacity will be made available pursuant to the terms and conditions of Tennessee's Gas Tariff. The estimated cost of the project is $2.4 million.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's website (http://www.ferc.gov) under the “e-Filing” link.

Dated: May 22, 2019.
Kimberly D. Bose,
Secretary.

[FR Doc. 2019-11174 Filed 5-28-19; 8:45 am]

BILLING CODE 6717-01-P